DEPARTMENT OF DEFENSE

Office of the Secretary

Notification of Upcoming Meeting of the Defense Advisory Board for Employer Support of the Guard and Reserve (DAB-ESGR)

AGENCY: Department of Defense.

ACTION: Notice of open meeting.

SUMMARY: This notice announces a meeting of the Defense Advisory Board for Employer Support of the Guard and Reserve. This meeting will focus on the status of DoD guidance and policies as related to employers of members of the Guard and Reserve. This meeting is open to the public.

DATES: May 7, 2009 from 0800-1600 hours.

ADDRESSES: Lee Room, Crystal Gateway Marriott, 1700 Jefferson Davis Highway, Arlington, VA 22202.

The public is asked to pre-register two weeks in advance of the meeting due to security and/or seating limitations. (See below information for pre-registration.)

FOR FURTHER INFORMATION CONTACT: Interested attendees may contact MAJ Elaine M. Gullotta at 703-696-1385 ext 540, or e-mail at elaine.gullotta@osd.mil.

SUPPLEMENTARY INFORMATION:

Agenda

0800 Convene (Mr. James G. Rebholz, Chairman).

0805 Approval of Minutes and Due Outs from previous meeting (Mr. James G. Rebholz).

0810 Board Discussion: Challenge Questions (Mr. James G. Rebholz, Chairman).

0830 Mr. Jay Marrone, Military Legislative assistant to Senator Ted Kennedy.

0930 Break.

0945 Board Discussion: Legislative issues, Challenge Question Review.

1000 The Secretary of Defense (Dr. Robert M. Gates) (invited—not confirmed).

1045 Break.

1100 DAB-ESGR Recruitment Efforts.

1200 Working Lunch, Charter Review and Update (Mr. James G. Rebholz, Chairman).

1315 Public Comment.

1330 Board Discussion of Public Comment.

1400 Employer Support of the Guard and Reserve Brief/DoD Policy (Mr. James G. Rebholz).

1420 Break.

1430 Status of DAB Recommendation for Employer Notification System (Mr. James G. Rebholz, Chairman).

1500 Secretary of Labor (The Honorable Hilda Solis) (invited—not confirmed).

1530 Summary of Proceedings and Administrative Announcements (Mr. James G. Rebholz).

1600 Adjourn.

(a) Background

The purpose of the Board is to provide independent advice and recommendations to the Secretary of Defense on matters that arise from the military obligation of members of the National Guard and Reserve members and the impact on their civilian employment.

(b) Availability of Materials for the Meeting

Please see the Federal Advisory Committee Act Web site for copies of any available materials, including draft agendas for the meeting and background information. (http://www.fido.gov/facadatabase/form_meetings.asp)

(c) Procedures for Providing Public Comments

It is the policy of the DAB-ESGR to accept written public comments of any length, and to accommodate oral public comments whenever possible. To facilitate Board discussion at its meetings, the Board may not accept oral comments at all meetings. The Board Staff expect that public statements presented at Board meetings will be focused on the Board's statutory charter and any working group topics.

Oral Comments: Speaking times will be confirmed by Board staff on a first-come/first-served basis. To accommodate as many speakers as possible, oral public comments must be no longer than 3 minutes. Because the Board members may ask questions, reserved times will be approximate. Interested parties must contact MAJ Elaine Gullotta in writing (via mail or e-mail) at least two weeks prior to the meeting.

Written Comments: Written comments should be received by the Board staff at least two weeks prior to the meeting date so that the comments may be made available to the Board for consideration prior to the meeting. Written comments should be supplied to MAJ Elaine Gullotta in one of the following formats (Word, PDF) via mail or e-mail at least two weeks prior to the meeting. Please Note: The Board operates under the provisions of the Federal Advisory Committee Act, as amended. All public presentations will be treated as public documents and will be made available for public inspection, up to and including being posted on the Federal Advisory Committee Web site.

Written Comments may be sent to: Employer Support of the Guard and Reserve, 1555 Wilson Blvd, Suite 200, Arlington, VA 22209, Attention: MAJ Elaine Gullotta.

Dated: April 14, 2009.
Morgan E. Frazier,
Alternate OSD Federal Register Liaison Officer, Department of Defense.

[FR Doc. E9-8839 Filed 4-16-09; 8:45 am]

BILLING CODE 5001-06-P